DEPARTMENT OF LABOR

Occupational Safety and Health Administration

Susan Harwood Training Grant Program, FY 2004 Budget

Announcement Type: Initial announcement of availability of funds and solicitation for grant applications.

Catalog of Federal Domestic Assistance No.: 17.502.

DATES: Grant applications must be received by the OSHA Office of Training and Education in Arlington Heights, Illinois, by 4:30 p.m. (central time) on Friday, June 18, 2004.

SUMMARY: This notice contains all of the necessary information and forms needed to apply for grant funding. The U.S. Department of Labor, Occupational Safety and Health Administration (OSHA) awards funds to nonprofit organizations to provide training and education programs or to develop training materials for employers and workers about safety and health topics selected by OSHA. Any nonprofit organization, including community-based and faith-based organizations, that is not an agency of a State or local government, is eligible to apply. State or local government-supported institutions of higher education are eligible to apply in accordance with 29 CFR part 95. This notice announces grant availability for two different categories of Susan Harwood Training grants. General descriptions of the two categories of grants are provided below.

Targeted Topic Grants

The Targeted Topic category grants are available to nonprofit organizations to conduct training for employers and employees on four different occupational safety and health topic areas selected by OSHA.

OSHA Training Materials Development Grants

The OSHA Training Materials Development category grants are available to nonprofit organizations to develop, evaluate, and validate training materials on four different occupational safety and health topic areas selected by OSHA. The materials are to be tailored to the industry or hazard and selected target audience. Training materials are to be developed in portable formats that are suitable for hard-copy publication and distribution and for Internet publication and distribution. The materials are intended for use by employers, employees, and other interested parties for the conduct of training or for self-study.

ADDRESSES: Grant applications must be sent to the attention of: Grants Officer, U.S. Department of Labor, OSHA, Office of Training and Education—OETP, 2020 S. Arlington Heights Road, Arlington Heights, Illinois 60005-4102.

SUPPLEMENTARY INFORMATION:

I. Funding Opportunity Description

Overview of the Susan Harwood Training Grant Program

The Susan Harwood Training Grant Program provides funds for programs to train workers and employers to recognize, avoid, and prevent safety and health hazards in their workplaces. The program emphasizes three areas:

• Educating workers and employers in small businesses. A small business has 250 or fewer workers.

• Training workers and employers about new OSHA standards.

• Training workers and employers about high risk activities or hazards identified by OSHA through its Strategic Management Plan, or as part of an OSHA special emphasis program.

Grant Categories Being Announced

OSHA will accept applications for two different categories of grants in FY 2004:

• Targeted Topic training category grants.

• OSHA Training Materials Development category grants.

Training Topics for the Targeted Topic Category Grants

Grantees funded for Targeted Topic category grants are expected to provide occupational safety and health training programs on topics selected by OSHA, develop safety and health training and/or educational programs, recruit workers and employers for the training, and conduct and evaluate the training. Grantees are also expected to follow up with people trained by their program to determine what, if any, changes were made to reduce hazards in their workplaces as a result of the training. If your organization plans to train workers or employers in any of the 26 states operating OSHA-approved State Plans, State OSHA requirements should be included in the training.

Four different topic areas were selected for this grant announcement. OSHA may award grants for some or all of the listed Targeted Topics. Applicants wishing to apply for more than one grant topic must submit a separate grant application for each topic. Each application must propose a plan for developing and conducting training programs addressing the recognition and prevention of safety and health hazards for one of the four following industries or topics of emphasis:

Construction Industry Hazards. Programs that train workers and employers in the recognition and prevention of safety and health hazards in one of the following subject areas:

• Excavation and trenching.

• Residential construction.

• Commercial Roofing.

General Industry Hazards. Programs that train workers and employers in the recognition and prevention of safety and health hazards in one of the following industries:

• Food processing industry involved in preserving fruits and vegetables (SIC 203/NAICS 3114).

• Concrete and concrete products (SIC 327 except 3274 and 3275/NAICS 32733).

• Public warehousing and storage (SIC 422/NAICS 4931).

• Landscaping/horticultural services (SIC 078/NAICS 56173).

Ergonomics. Programs that are based on OSHA's industry-specific ergonomics guidelines that train workers and employers on ergonomic hazards. Other industries that have high incidence rates for ergonomic injuries, for which guidelines are not available, can be proposed by applicants. Select one of the following industries:

• Poultry Processing Industry.

• Retail Grocery Stores.

• Other Industry. The selected industry must have a high incidence rate for ergonomic injuries. The applicant must substantiate the rate based on Bureau of Labor Statistics (BLS) data in its proposal. The training program should follow established best practices or follow a combination of effective practices for addressing the ergonomic risk factors for the industry being targeted to receive this training.

Healthcare Industry. Programs that train workers and employers about the prevention of respiratory diseases and exposures, including tuberculosis, in one of the following healthcare settings:

• Hospitals (SIC 806/NAICS 6221).

• Nursing Homes (SIC 805/NAICS 6231).

Topics for the OSHA Training Materials Development Category Grants

Grantees funded for OSHA Training Materials Development category grants are expected to develop, evaluate, and validate “classroom-quality” training materials on occupational safety and health topics selected by OSHA that may be used immediately for classroom or worksite training or for self-study. The objective is to make quality training materials available for training and education purposes that have broad applicability. The training materials should be tailored to the topic, industry, and targeted audience announced in this solicitation. While limited on-site training may be proposed for evaluation and validation purposes, the conduct of training programs should not be a significant workplan element in the grant proposal. The training materials are to be developed in portable formats that are suitable for hard-copy publication and distribution and Internet publication and distribution.

Grantees developing training materials under this grant category will be required to post the training materials on their organization's Web site for two years after receiving OSHA approval of their final products, and provide access to users at no cost. OSHA may list the grantees' URL addresses to access these materials or directly link to the materials on the grantees' Web sites from OSHA's Web site. In addition, these grantees will also be required to track and report quarterly to OSHA on the distribution and use of these training materials during the two years the materials are posted on their Web site. Grantees will collect and report on training materials product usage by tracking the number of times the grantee's training materials Web site was visited, and the number of times the training materials were downloaded. After the two year period, OSHA may continue to post or to link to the materials on the Internet for no-cost access by any interested party.

Four different topic areas were selected for this grant announcement. OSHA may award grants for some or all of the OSHA Training Materials Development topics. Applicants wishing to apply for more than one grant topic must submit a separate grant application for each topic. Each application must propose a plan for developing, evaluating and validating training materials for one of the four following industries or topics of emphasis:

Construction Industry Hazards. Programs suitable for training others or for self-study in the recognition and prevention of safety and health hazards in one of the following subject areas:.

• Excavation and trenching.

• Residential construction.

• Commercial Roofing.

General Industry Hazards. Programs suitable for training others or for self-study in the recognition and prevention of safety and health hazards in one of the following industries:

• Food processing industry involved in preserving fruits and vegetables (SIC 203/NAICS 3114).

• Concrete and concrete products (SIC 327 except 3274 and 3275/NAICS 32733).

• Steel works, blast furnaces, and rolling and finishing mills (SIC 331/NAICS 3311 and 3312).

• Ship and boat building and repair (SIC 373/NAICS 33661).

• Public warehousing and storage (SIC 422/NAICS 4931).

• Landscaping/horticultural services (SIC 078/NAICS 56173).

• Oil and gas field services (SIC 138/NAICS 213111 and 213112).

Lead Exposure. Programs suitable for training others or for self-study in the recognition and the prevention of exposure to lead hazards in one of the following industries:

• Lead hazards in construction.

• Lead hazards in general industry.

Transportation Fatalities, Work-Related. Programs suitable for training others or for self-study about the principles of safe driving and the prevention of work-related transportation fatalities.

• Work-related motor vehicle accident and fatality prevention program.

II. Award Information

Targeted Topic category grants will be awarded for a 12-month period. The performance period for these grants begins September 30, 2004, and ends September 30, 2005. There is approximately $1.3 million available for this grant category. The average Federal award will be $150,000.

OSHA Training Materials Development category grants will be awarded for a 12-month period. The performance period for these grants begins September 30, 2004, and ends September 30, 2005. There is approximately $4 million available for this grant category. The average Federal award will be $200,000.

III. Eligibility Information

1. Eligible Applicants

Any nonprofit organization, including community-based and faith-based organizations, that is not an agency of a State or local government, is eligible to apply. State or local government supported institutions of higher education are eligible to apply in accordance with 29 CFR part 95. Eligible organizations can apply independently for funding, or in partnership with other eligible organizations, but in such a case, a lead organization must be identified. Sub-contracts must be awarded in accordance with 29 CFR 95.40-48, including OMB circulars requiring free and open competition for procurement transactions.

A 501(c)(4) nonprofit organization, as described in 26 U.S.C. 501(c)(4), that engages in lobbying activities will not be eligible for the receipt of Federal funds constituting an award, grant or loan. See 1 U.S.C. 1611.

Applicants other than State or local government supported institutions of higher education will be required to submit evidence of nonprofit status, preferably from the Internal Revenue Service (IRS).

Authorities: The Occupational Safety and Health Act of 1970 and the Consolidated Departments Appropriations Act Resolution 2003, Pub. L. 108-7, authorize this program.

2. Cost Sharing or Matching

Applicants are not required to contribute non-Federal resources towards the grant.

3. Other Eligibility Requirements

A. Legal Rules That Apply to Faith-Based Organizations That Receive Federal Financial Assistance

The government is prohibited from providing direct financial assistance for religious activity*. These grants may not be used for religious instruction, worship, prayer, proselytizing or other inherently religious practices. Neutral, non-religious criteria that neither favor nor disfavor religion will be employed in the selection of grant recipients and must be used by grantees in the selection of sub-recipients.

* In this context, the term direct financial assistance means financial assistance that is provided directly by a government entity or an intermediate organization, as opposed to financial assistance that an organization receives as the result of the genuine and independent private choice of a beneficiary. In other contexts, the term “direct” financial assistance may be used to refer to financial assistance that an organization receives directly from the Federal government as “discretionary” assistance), as opposed to assistance that it receives from a State or Local government (also known as “indirect” or “block” grant assistance). The term “direct” has the former meaning throughout this solicitation for grant applications (SGA).

Application and Submission Information

IV. Application and Submission Information

1. Address To Request Application Package

Application forms are published as part of this Federal Register notice and in the Federal Register, which may be obtained from your nearest U.S. Government office or public library or online at http://www.archives.gov/federal_register/index.html. The complete Federal Register notice may also be downloaded from the OSHA Susan Harwood Training Grant Program Web site at http://www.osha.gov/fso/ote/training/sharwood/sharwood.html.

2. Content and Form of Application Submission

Separate grant applications must be submitted by organizations interested in applying for a grant under more than one grant category and by organizations interested in applying for more than one topic area under each category.

A. Required Contents

To be considered for a Harwood grant, an application must include all of the information listed below. A complete application will contain the following forms and narrative sections. The parts are listed in the order in which they should appear in the application.

(a) Application for Federal Assistance form (SF 424).

(b) Survey on Ensuring Equal Opportunity for Applicants form.

(c) Program Summary. The program summary is a short one-to-two page abstract that summarizes the proposed project and provides information about the applicant organization.

(d) Budget Information forms (SF 424A).

(e) Detailed Project Budget Backup. The detailed budget will break out the costs that are listed in Section B of the SF 424A Budget Information form.

(f) A description of any voluntary non-Federal resource contribution to be provided by the applicant, including source of funds and estimated amount.

(g) Technical Proposal, program narrative, not to exceed 30 single-sided pages, double-spaced, 12-point font, containing: Problem Statement/Need for Funds; Administrative and Program Capability; and Workplan.

(h) Assurances form (SF 424B).

(i) Certifications form (OSHA 189).

(j) Supplemental Certification Regarding Lobbying Activities form.

(k) Organizational Chart.

(l) Evidence of Non-Profit status, if applicable. (Does not apply to State and local government-supported institutions of higher education.)

(m) Accounting System Certification, if applicable. Organizations that receive less than $1 million annually in Federal grants must attach a certification signed by your certifying official stating that your organization has a functioning accounting system that meets the criteria below. Your organization may also designate a qualified entity (include the name and address in the documentation) to maintain a functioning accounting system that meets the criteria below. The certification should attest that your organization's accounting system provides for the following:

1. Accurate, current and complete disclosure of the financial results of each federally sponsored project.

2. Records that identify adequately the source and application of funds for federally sponsored activities.

3. Effective control over and accountability for all funds, property and other assets.

4. Comparison of outlays with budget amounts.

5. Written procedures to minimize the time elapsing between the transfer of funds.

6. Written procedures for determining the reasonableness, allocability and allowability of costs.

7. Accounting records, including cost accounting records, that are supported by source documentation.

(n) Any attachments such as resumes, exhibits, lists of previous grants, and letters of support.

The forms listed above are included as a part of this Federal Register notice. The forms are also available on the OSHA grant Web page at http://www.osha.gov/fso/ote/training/sharwood/sharwood.html#apply. These forms do not count toward the page limitation specified.

B. Technical Proposal

The Technical Proposal will contain the narrative segments of the application including the Program Summary abstract, not to exceed two pages; and the Program Narrative section, not to exceed 30 single-sided, double-spaced, 12-point font, typed pages in length; consisting of the Problem Statement/Need for Funds; Administrative and Program Capability; and Workplan. Reviewers will only consider Technical Proposal Program Narrative information up to the 30-page limit. The Technical Proposal must demonstrate the capability to successfully administer the grant and to meet the objectives of this solicitation. The Technical Proposal will be rated in accordance with the selection criteria specified in section V., A. (Note: Separate review criteria are provided for each grant category.)

The Technical Proposal must include the following sections.

(a) Program Summary; an abstract of the application, not to exceed two pages, that must include the following information:

• Applicant organization's full legal name.

• Project director's name, title, street address, and mailing address if it is different from the street address, telephone and fax numbers, and e-mail address. The Project Director is the person who will be responsible for the day-to-day operations and administration of the program.

• Certifying Representative's name, title, street address, and mailing address if it is different from the street address, telephone and fax numbers, and e-mail address. The Certifying Representative is the official in your organization who is authorized to enter into grant agreements.

• Funding requested. List how much Federal funding you are requesting. If your organization is contributing non-Federal resources, also list the amount of non-Federal resources your organization is contributing.

• Grant Category. List the grant category your organization is applying under, i.e., Targeted Topic category, or OSHA Training Materials Development category.

• Grant Topic. List the grant topic and industry or subject area your organization has selected to target in its application.

• Summary of the Program. Write a brief summary of your program.

• Applicant Background. Describe your applicant organization, including its mission and a description of your membership, if any.

(b) The Program Narrative segment, which is not to exceed 30 pages in length, should address each section listed below.

• Problem Statement/Need for Funds. Describe the hazards that will be addressed in your program, the target population(s) that will benefit from your training and education program, and the barriers that have prevented this population from receiving adequate training. When you discuss target populations, include geographic location(s), and the number of workers and employers.

• Administrative and Program Capability. Briefly describe your organization's functions and activities. Relate this description of functions to your organization chart that is included in the application. If your organization is conducting, or has conducted within the last five years, any other government (Federal, State, local) grant programs, the application must include an attachment (which will not count towards the page limit) providing information regarding previous grants including (a) the organization for which the work was done, and (b) the dollar value of the grant. If your organization has no previous grant experience, you may partner with an organization that has grant experience to manage the grant. If you use this approach, the management organization should be identified and its grant program experience discussed.

Program Experience. Describe your organization's experience conducting the type of program that you are proposing. Include program specifics such as program title, numbers trained and duration of training. Experience includes safety and health experience, training experience with adults, and programs operated specifically for the selected target population(s). Nonprofit organizations, including community-based and faith-based organizations, that do not have prior experience in safety and health may partner with an established safety and health organization to acquire safety and health expertise.

• Staff Experience. Describe the qualifications of the professional staff you will assign to the program. Include resumes of staff already on board. If some positions are vacant, include position descriptions/minimum hiring qualifications instead of resumes. Qualified staff are those with safety and health experience, training experience and experience working with the target population.

• Workplan. The 12-month workplan should correlate with the period of performance that will begin September 30, 2004, and end September 30, 2005. An outline of specific items required in your workplan follows.

Plan Overview. Describe your plan for grant activities and the anticipated outcomes. The overall plan will describe such things as the recruiting of trainees, the training content, where or how training will take place, and the anticipated benefits to workers and employers receiving the training.

Activities. Break your overall plan down into activities or tasks. For each activity, explain what will be done, who will do it, when it will be done, and the results of the activity. When you discuss training include the subjects to be taught, the length of the training sessions, and training location (classroom, worksites.) Describe how you will recruit trainees for the training.

Quarterly Projections. For training and other quantifiable activities, estimate how many you will do each quarter of the grant (grant quarters match calendar quarters (i.e., January to March, April to June)) and provide the training number totals for the grant. Quarterly projections are used to measure your actual performance against your plans. If you plan to conduct a train-the-trainer program, estimate the number of individuals you expect to be trained during the grant period by those who received the train-the-trainer training. These second tier training numbers should only be included if your organization is planning to follow up with the trainers to obtain this data during the grant period.

Materials. Describe each educational material you will produce under the grant, if not treated as a separate activity under Activities above. Provide a timetable for developing and producing the material. OSHA must review and approve training materials for technical accuracy before the materials are used in your grant program. Therefore, your timetable must include provisions for an OSHA review of draft and camera-ready products as well as any commercially acquired training materials being proposed for use in your training programs.

Evaluation. There are three types of evaluations that should be conducted. First, describe plans to evaluate the training sessions or the training materials being developed. Second, describe your plans to evaluate your progress in accomplishing the grant work activities listed in your application. This includes comparing planned and actual accomplishments. Discuss who is responsible for taking corrective action if plans are not being met. Third, describe your plans to assess the effectiveness of the training your organization is conducting or to evaluate and validate the training materials your organization is developing. This will involve following-up, by survey or on-site review, if feasible, with people who attended the training or utilized your training materials to find out what changes were made to abate hazards in their workplaces. Include timetables for follow-up and for submitting a summary of the assessment results to OSHA.

(c) An organizational chart of the staff that will be working on this grant and their location within the applicant organization.

(d) A Detailed Project Budget that clearly details the costs of performing all of the requirements presented in this solicitation. The detailed budget will break out the costs that are listed in section B of the SF 424A Budget Information form.

(e) A description of any voluntary non-Federal resource contribution to be provided by the applicant, including source of funds and estimated amount.

Attachments: Summaries of other relevant organizational experiences; information on prior government grants; resumes of key personnel and/or position descriptions; and signed letters of commitment to the project.

To be considered responsive to this solicitation the application must consist of the above mentioned separate parts. The Technical Proposal narrative is not to exceed 30 single-sided (8½″ x 11″ or A4), double-spaced, 12-point font, typed pages. Major sections and sub-sections of the application should be divided and clearly identified (e.g., with tab dividers), and all pages shall be numbered. Standard Forms, attachments, resumes, exhibits, letters of support, and the abstract are not counted toward the page limit.

Applicants are reminded to budget for compliance with the administrative requirements set forth (copies of all regulations that are referenced in this SGA are available at no cost, on-line, at http://www.osha.gov/fso/ote/training/sharwood/sharwood.html). This includes the costs of performing activities such as travel for two staff members, one program and one financial, to the Chicago area to attend a new grantee orientation meeting; financial audit, if required; project closeout; document preparation (e.g., quarterly progress reports, project document); and ensuring compliance with procurement and property standards. The Detailed Project Budget should identify administrative costs separately from programmatic costs for both Federal and non-Federal funds. Administrative costs include indirect costs from the costs pool and the cost of activities, materials, meeting close-out requirements as described in section VI, and personnel (e.g., administrative assistants) who support the management and administration of the project but do not provide direct services to project beneficiaries. Administrative costs cannot exceed 25% of the total grant budget. The project budget should clearly demonstrate that the total amount and distribution of funds is sufficient to cover the cost of all major project activities identified by the applicant in its proposal, and must comply with Federal cost principles (which can be found in the applicable OMB Circulars).

3. Submission Date, Times, and Addresses

Date: The closing date for receipt of applications is Friday, June 18, 2004. Applications must be received by 4:30 p.m. (central time) at the address below. Applications sent by e-mail, telegram, or facsimile (fax) will not be accepted. Applications sent by other delivery services, such as Federal Express, UPS, etc., will be accepted; the applicant, however, bears the responsibility for timely submission. Applications that do not meet the conditions set forth in this notice will not be honored. No exceptions to the mailing and delivery requirements set forth in this notice will be granted.

Applications must be delivered to: Grants Officer, U.S. Department of Labor, OSHA, Office of Training and Education—OETP, 2020 S. Arlington Heights Road, Arlington Heights, Illinois 60005-4102.

The individual signing the SF 424 form on behalf of the applicant must be authorized to bind the applicant.

One (1) blue ink-signed original complete application in English plus two (2) copies of each application must be received at the designated place by the date and time specified, or it will not be considered unless it is received before the award is made and:

(a) It was sent by registered or certified mail no later than the fifth calendar day before the closing date; or

(b) It was sent by U.S. Postal Service Express Mail/Next Day Service from the post office to the addressee no later than 4:45 p.m. at the place of mailing two (2) working days (excluding weekends and Federal holidays and days when the Federal government is closed), prior to the closing date; or

(c) It is determined by the Government that the late receipt was due solely to mishandling by the Government after receipt at the U.S. Department of Labor at the address indicated.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped, or otherwise placed impression (not a postage meter machine impression) that is readily identifiable without further action as having been applied and affixed by an employee of the U.S. Postal Service on the date of mailing. Therefore, applicants should request that the postal clerk place a legible hand cancellation “bulls-eye” postmark on both the receipt and the envelope or wrapper.

The only acceptable evidence to establish the date of mailing of a late application sent by U.S. Postal Service Express Mail/Next Day Service from the Post Office to the addressee is the date entered by the Post Office receiving clerk on the “Express Mail/Next Day Service—Post Office to Addressee” label and the postmark on the envelope or wrapper on the original receipt from the U.S. Postal Service. “Postmark” has the same meaning as defined above.

4. Intergovernmental Review

The Harwood Training Grant Program is not subject to Executive Order 12372 Intergovernmental Review of Federal Programs.

5. Funding Restrictions

Grant funds may be spent on the following.

(a) Conducting training.

(b) Conducting other activities that reach and inform workers and employers about workplace occupational safety and health hazards and hazard abatement.

(c) Conducting outreach and recruiting activities to increase the number of workers and employers participating in the program.

(d) Developing educational materials for use in training.

(e) For the OSHA Training Materials Development category grants, purchase of software necessary to track the number of visits to the grantee's training materials Web site and the number of times the training materials were downloaded.

Grant funds may not be used for the following activities under the terms of the grant program.

(a) Any activity that is inconsistent with the goals and objectives of the Occupational Safety and Health Act of 1970.

(b) Training individuals not covered by the Occupational Safety and Health Act.

(c) Training workers or employers from workplaces not covered by the Occupational Safety and Health Act. Examples include: State and local government workers in non-State Plan States, and workers covered by section 4(b)(1) of the Act.

(d) Training on topics that do not cover the recognition, avoidance, and prevention of unsafe or unhealthy working conditions. Examples of unallowable topics include: workers' compensation, first aid, and publication of materials prejudicial to labor or management.

(e) Assisting workers in arbitration cases or other actions against employers, or assisting employers and workers in the prosecution of claims against Federal, State or local governments.

(f) Duplicating services offered by OSHA, a State under an OSHA-approved State Plan, or consultation programs provided by State designated agencies under section 21(d) of the Occupational Safety and Health Act.

(g) Generating membership in the grantee's organization. This includes: activities to acquaint nonmembers with the benefits of membership, inclusion of membership appeals in materials produced with grant funds, membership drives.

While the activities described above may be part of an organization's regular programs, the costs of these activities cannot be paid for by grant funds, whether the funds are from matching resources or from the Federally funded portion of the grant.

Determinations of allowable costs will be made in accordance with the applicable Federal cost principles, e.g., Nonprofit Organizations—OMB Circular A-122; Educational Institutions—OMB Circular A-21. Disallowed costs are those charges to a grant that the grantor agency or its representative determines to not be allowed in accordance with the applicable Federal Cost Principles or other conditions contained in the grant.

No applicant at any time will be entitled to reimbursement of pre-award costs.

V. Application Review Information

Grant applications will be reviewed by technical panels comprised of OSHA staff. The results of the grant reviews will be presented to the Assistant Secretary who will make the selection of organizations to be awarded grants. Agency priorities and geographic factors may also be taken into consideration in the selection process. OSHA may award grants for some or all of the listed topic areas. It is anticipated that the grant awards will be announced in September 2004.

1. Criteria

The technical panel will review grant applicants against the criteria listed below, which are separately listed for the “Targeted Topic” and “OSHA Training Materials Development” categories, on the basis of 100 points.

Targeted Topic category grant applications will be reviewed and rated as follows.

A. Technical Approach—55 points

(Note: Separate review criteria are provided for each grant category.)

Program Design

(1) The proposed training and education program addresses the recognition and prevention of safety and health hazards for one of the four following industries or topics of emphasis. (5 points)

Construction Industry Hazards. Programs that train workers and employers in the recognition and prevention of safety and health hazards in one of the following subject areas:

• Excavation and trenching.

• Residential construction.

• Commercial Roofing.

General Industry. Programs that train workers and employers in the recognition and prevention of safety and health hazards in one of the following industries:

• Food processing industry involved in preserving fruits and vegetables (SIC 203/NAICS 3114).

• Concrete and concrete products (SIC 327 except 3274 and 3275/NAICS 32733).

• Public warehousing and storage (SIC 422/NAICS 4931).

• Landscaping/horticultural services (SIC 078/NAICS 56173).

Ergonomics. Programs that are based on OSHA's industry-specific ergonomics guidelines that train workers and employers on ergonomic hazards. Other industries that have high incidence rates for ergonomic injuries, that guidelines are not available for, can be proposed by applicants. Select one of the following industries:

• Poultry Processing Industry.

• Retail Grocery Stores.

• Other Industry. The selected industry must have a high incidence rate for ergonomic injuries. The applicant must substantiate the rate based on Bureau of Labor Statistics (BLS) data in its proposal. The training program should follow established best practices or follow a combination of effective practices for addressing the ergonomic risk factors for the industry being targeted to receive this training.

Healthcare Industry. Programs that train workers and employers about the prevention of respiratory diseases and exposures, including tuberculosis, in one of the following healthcare settings:

• Hospitals (SIC 806/NAICS 6221).

• Nursing Homes (SIC 805/NAICS 6231).

(2) The proposal plans to train workers and/or employers and clearly estimates the numbers to be trained, and clearly identifies the types of workers and employers to be trained. The training will reach workers and employers from multiple employers. (5 points)

(3) If the proposal contains a train-the-trainer program, the following information must be provided:

• What ongoing support the grantee will provide to new trainers;

• The number of individuals to be trained as trainers;

• The estimated number of courses to be conducted by the new trainers;

• The estimated number of students to be trained by these new trainers; and

• A description of how the grantee will obtain data from the new trainers about their classes and student numbers. (3 points)

(4) The planned activities and training are tailored to the needs and levels of the workers and employers to be trained. The target population to be served through the grant program is described. The training materials and training programs are to be tailored to the training needs of one or more of the following target audiences: Small businesses; minority businesses; limited English proficiency, non-literate and low literacy workers; youth; immigrant and minority workers; and other hard-to-reach workers; and workers in high-hazard industries and industries with high fatality rates. Organizations proposing to develop Spanish-language training materials for the construction industry should utilize the English-to-Spanish OSHA Dictionary of Construction Terms for terminology. The Dictionary is available on the OSHA Web site at http://www.osha.gov/as/opa/spanish/dict_const_e-s.html. (7 points)

(5) There is a plan to recruit trainees for the program. (7 points)

(6) If the proposal includes developing educational materials for use in the training program, there is a plan for OSHA to review the educational materials for technical accuracy during development. If commercially-developed training products will be used for the program, applicants should also plan for OSHA to review the materials before using the products. (5 points)

(7) There is a plan to evaluate the program's effectiveness and impact to determine if the safety and health training and services provided resulted in workplace change. This includes a description of the evaluation plan to follow up with trainees to determine the impact the program has had in abating hazards and reducing worker injuries. (5 points)

(8) The application is complete, including forms, budget detail, narrative and workplan, and required attachments. (3 points)

Budget

(1) The budgeted costs are reasonable. No more than 25% of the total budget is for administration. (5 points)

(2) The budget complies with Federal cost principles (which can be found in the applicable OMB Circulars) and with OSHA budget requirements contained in the grant application instructions. (5 points)

(3) The cost per trainee is less than $500 and the cost per training hour is reasonable. (5 points)

B. Past Performance—20 points

(1) The organization applying for the grant demonstrates experience with occupational safety and health. Applicants that do not have prior experience in providing safety and health training to workers or employers may partner with an established safety and health organization to acquire safety and health expertise. (6 points)

(2) The organization applying for the grant demonstrates experience in training adults in work-related subjects or in providing services to its target audience. (6 points)

(3) The application demonstrates that the applicant has strong financial management and internal control systems. The applicant organization demonstrates experience managing a variety of programs. (5 points)

(4) Information regarding any Federal and/or State grants that the organization has administered over the past five years is provided. (3 points)

C. Experience and Qualification of Personnel—25 points

(1) The staff to be assigned to the project has experience in occupational safety and health, the specific topic chosen, and in training adults. (15 points)

(2) Project staff have experience in recruiting, training, and working with the population your organization proposes to serve under the grant. (10 points)

OSHA Training Materials Development category grant applications will be reviewed and rated as follows.

A. Technical Approach—55 points

Note: Separate review criteria are provided for each grant category.)

Grantees will be expected to develop, evaluate and validate training materials that are tailored to a specific topic, industry and target audience that could be used to supplement materials that are currently available from OSHA and other government agencies. More than one target audience may be selected. The training materials must include:

• Detailed description of the most dangerous tasks/job duties.

• Identification of the hazards associated with these tasks.

• Methods of abating these hazards.

• Training materials should be tailored directly to the target audience participant. Grantees will be expected to submit “classroom quality” products. Classroom quality materials should follow the commonly accepted instructional systems design process that OSHA has adopted as a quality measure for all of its education and training products. OSHA has outlined a seven-step design process in the U.S. Department of Labor publication OSHA 2254 (1998 Revised) Training Requirements in OSHA Standards and Training Guidelines OSHA's seven-step model is: Determine if training is needed; identify training needs; identify goals and objectives; develop learning activities; conduct the training; evaluate program effectiveness; and improve the program.

• Grantees are to develop the training materials in a portable format that is suitable for hard-copy publication and distribution and Internet publication and distribution.

• Grantees will be required to post the approved final product training materials on their Web site for two years at no cost to users. OSHA may list the grantees' URL addresses to access these materials or directly link to the materials on the grantees' Web sites from OSHA's Web site.

• Grantees will be required to track and report quarterly to OSHA on the usage of the training materials developed under this grant. Usage statistics would include the number of times the training materials Web site was visited, and the number of times the training materials were downloaded from the Internet during the two-year period.

Program Design

(1) The proposed training and educational materials are tailored to the specific topic, industry and a selected target audience and address one of the four selected training materials topics. (5 points)

Construction Industry Hazards. Programs that train workers and employers in the recognition and prevention of safety and health hazards in one of the following areas:

• Excavation and trenching.

• Residential construction.

• Commercial Roofing.

General Industry Hazards. Programs that address the recognition and prevention of safety and health hazards in one of the following industries:

• Food processing industry involved in preserving fruits and vegetables (SIC 203/NAICS 3114).

• Concrete and concrete products (SIC 327 except 3274 and 3275/NAICS 32733).

• Steel works, blast furnaces, and rolling and finishing mills (SIC 331/NAICS 3311 and 3312).

• Ship and boat building and repair (SIC 373/NAICS 33661).

• Public warehousing and storage (SIC 422/NAICS 4931).

• Landscaping/horticultural services (SIC 078/NAICS 56173).

• Oil and gas field operations (SIC 138/NAICS 213111 and 213112).

Lead Hazards. Programs that train employers and workers about the recognition of lead hazards within their industry and the prevention of exposure. Applicants should select one of the following industries:

• Lead hazards in construction.

• Lead hazards in general industry.

Transportation Fatalities, Work-Related. Programs that train workers and employers about the principles of safe driving and the prevention of work-related transportation fatalities:

• Work-related motor vehicle accident and fatality prevention program.

(2) The intended audience(s) for this training is identified. Evidence will be provided of a plan to analyze the training needs of the selected target audience. Training programs and materials are to be tailored to the training needs of one or more of the following target audiences: Small businesses; minority businesses; limited English proficiency, non-literate and low literacy workers; youth; immigrant and minority workers; other hard-to-reach workers; and workers in high-hazard industries or industries with high fatality rates. Organizations proposing to develop Spanish-language training materials for the construction industry should utilize the English-to-Spanish OSHA Dictionary of Construction Terms for terminology. The Dictionary is available on the OSHA Web site at http://www.osha.gov/as/opa/spanish/dict_const_e-s.html. (7 points)

(3) Tasks/job duties that will be discussed during training are described. An explanation will be provided of how the tasks/job duties or other unique characteristics of the intended audience will be incorporated into the training materials. Occupational safety and health hazards associated with the featured tasks/job duties are described. An explanation of how these hazards were identified and a description of the method(s) being proposed to eliminate or control the hazards to be highlighted during the training process are provided. (5 points)

(4) A written set of objectives is provided for each course or set of training materials. Proposed method(s) to evaluate and verify how the training objectives will be met are described. There is a clear link between objectives and evaluation criteria. (7 points)

(5) A brief outline of the proposed course or training program content is provided. A sample lesson/training module or a detailed description of the lesson/training module is included. (5 points)

(6) Description of the items that will be included as the final training products/materials is provided. These may include instructor's manuals, student's manuals, brochures, visual aids, videotapes, or technology-based training materials such as digital photos, CDs, DVDs, or Web-based products. (4 points)

(7) Proposal includes a plan for OSHA to review the educational materials for (1) technical accuracy and (2) quality of instructional design during development. (5 points)

(8) Proposal explains how the grantee will track and report on the usage of the training materials during the two-year time period the materials are to be posted on the grantee's Web site. (4 points)

(9) The application is complete, including forms, budget detail, narrative and workplan, and required attachments. (3 points)

Budget

(1) The budgeted costs are reasonable. No more than 25% of the total budget is for administration. (5 points)

(2) The budget complies with Federal cost principles (which can be found in applicable OMB Circulars) and with OSHA budget requirements contained in the grant application instructions. (5 points)

B. Past Performance—20 points

(1) Applicant organization demonstrates experience with occupational safety and health. Applicants that do not have prior experience in safety and health may partner with an established safety and health organization to acquire safety and health expertise. (6 points)

(2) Applicant organization demonstrates experience training adults in work-related subjects or in recruiting, training, and working with the population it proposes to serve under the grant. (6 points)

(3) Applicant organization demonstrates that it has strong financial management and internal control systems. The applicant organization demonstrates experience managing a variety of programs. (5 points)

(4) Any Federal and/or State grants that the organization has administered over the past five years are listed. (3 points)

C. Experience and Qualifications of Personnel—25 points

(1) The staff to be assigned to the project has experience in occupational safety and health, the specific topic chosen, and training adults. (15 points)

(2) Staff has experience in recruiting, training, and working with the population it proposes to serve under the grant. (10 points)

2. Review and Selection Process

OSHA will screen all applications to determine whether all required proposal elements are present and clearly identifiable. Those that do not may be deemed non-responsive and may not be evaluated. A technical panel will objectively rate each complete application against the criteria described in this announcement. The panel recommendations to the Assistant Secretary are advisory in nature. The Assistant Secretary may establish a minimally acceptable rating range for the purpose of selecting qualified applicants. The Assistant Secretary will make a final selection determination based on what is most advantageous to the Government, considering factors such as panel findings, geographic presence of the applicants, and the best value to the government, cost, and other factors. The Assistant Secretary's determination for award under this SGA is final.

3. Anticipated Announcement and Award Dates

Announcement of these awards is expected to occur by September 30, 2004. The grant agreement will be awarded by no later than September 30, 2004.

VI. Award Administration Information

1. Award Notices

Organizations selected as grant recipients will be notified by a representative of the Assistant Secretary, usually from an OSHA Regional office. An applicant whose proposal is not selected will be notified in writing.

Notice that an organization has been selected as a grant recipient does not constitute approval of the grant application as submitted. Before the actual grant award, OSHA will enter into negotiations concerning such items as program components, staffing and funding levels, and administrative systems. If the negotiations do not result in an acceptable submittal, the Assistant Secretary reserves the right to terminate the negotiation and decline to fund the proposal.

Note: Except as specifically provided, OSHA's acceptance of a proposal and an award of Federal funds to sponsor any program(s) does not provide a waiver of any grant requirement and/or procedures. For example, if an application identifies a specific sub-contractor to provide the services, the USDOL OSHA award does not provide the justification or basis to sole-source the procurement, i.e., to avoid competition.

2. Administrative and National Policy Requirements

All grantees, including faith-based organizations, will be subject to applicable Federal laws and regulations (including provisions of appropriations law) and the applicable Office of Management and Budget (OMB) Circulars. The grant award(s) awarded under this SGA will be subject to the following administrative standards and provisions, if applicable.

29 CFR part 95, which covers grant requirements for nonprofit organizations, including universities and hospitals. These are the Department of Labor regulations implementing OMB Circular A-110.

29 CFR part 93, new restrictions on lobbying.

29 CFR part 98, governmentwide debarment and suspension (nonprocurement) and governmentwide requirements for drug-free workplace (grants.)

OMB Circular A-21, which describes allowable and unallowable costs for educational institutions.

OMB Circular A-122, which describes allowable and unallowable costs for other nonprofit organizations.

OMB Circulars A-133, 29 CFR parts 96 and 99, which provide information about audit requirements.

29 CFR parts 31, 32 and 36 as applicable.

Certifications. All applicants are required to certify to a drug-free workplace in accordance with 29 CFR part 98, to comply with the New Restrictions on Lobbying published at 29 CFR part 93, to make a certification regarding the debarment rules at 29 CFR part 98, and to complete a special lobbying certification.

Students. Grant-funding training programs must serve multiple employers and their employees. Grant-funded training programs must serve individuals covered by the Occupational Safety and Health Act of 1970. As a part of the grant close-out process, grantees must self-certify that their grant-funded programs and materials were not provided to ineligible audiences.

Other. In keeping with the policies outlined in Executive Orders 13256, 12928, 13230, and 13021 as amended, the grantee is strongly encouraged to provide subgranting opportunities to Historically Black Colleges and Universities, Hispanic Serving Institutions,and Tribal Colleges and Universities.

3. Special Program Requirements

OSHA review of educational materials. OSHA will review all educational materials produced by the grantee for technical accuracy and quality of instructional design during development and before final publication. OSHA will also review training curricula and purchased training materials for accuracy before they are used. Grantees developing training materials must follow all copyright laws and document that their materials are free from copyright infringements.

When grant recipients produce training materials, they must provide copies of completed materials to OSHA before the end of the grant period. OSHA has a lending program that circulates grant-produced audiovisual materials. Audiovisual materials produced by the grantee as a part of its grant program will be included in this lending program. In addition, all materials produced by grantees must be provided to OSHA in hard copy as well as in a digital format (CD Rom/DVD) for possible publication on the Internet by OSHA. Three copies of the materials must be provided to OSHA. Acceptable formats for training materials include Microsoft Word 2000 and Microsoft PowerPoint 2000.

As listed in 29 CFR 95.36, the Department of Labor reserves a royalty-free, nonexclusive and irrevocable right to reproduce, publish, or otherwise use the work for Federal purposes, and to authorize others to do so.

Posting of OSHA Training Materials Development Training Materials on the Internet. Grantees developing training materials under the OSHA Training Materials Development grant category will be required to post the training materials on their organization's Web site for two years after receiving OSHA approval of their final products, and provide access to users at no cost. OSHA may list the grantees' URL addresses to access these materials or directly link to the materials on the grantees' Web sites from OSHA's Web site. In addition, these grantees will also be required to track and report quarterly to OSHA on the distribution and use of these training materials during the two years the materials are posted on their Web site. Grantees will collect and report on training materials product usage by tracking the number of times the grantee's training materials Web site was visited, and the number of times the training materials were downloaded.

Acknowledgment of USDOL Funding. Printed Materials: In all circumstances, all approved grant-funded materials developed by a grantee shall contain the following disclaimer:

This material was produced under grant number____from the Occupational Safety and Health Administration, U.S. Department of Labor. It does not necessarily reflect the views or policies of the U.S. Department of Labor, nor does mention of trade names, commercial products, or organizations imply endorsement by the U.S. Government.

Public reference to grant: When issuing statements, press releases, requests for proposals, bid solicitations, and other documents describing projects or programs funded in whole or in part with Federal money, all Grantees receiving Federal funds must clearly state:

• The percentage of the total costs of the program or project, that will be financed with Federal money;

• The dollar amount of Federal financial assistance for the project or program; and

• The percentage and dollar amount of the total costs of the project or program that will be financed by non-governmental sources.

4. Reporting

Grantees are required by Departmental regulations to submit program and financial reports each calendar quarter. All reports are due no later than 30 days after the end of the fiscal quarter and shall be submitted to the appropriate OSHA Regional Office.

Financial: The Grantee(s) shall submit financial reports on a quarterly basis. The first reporting period shall end on the last day of the fiscal quarter (December 31, March 31, June 30, or September 30) during which the grant was signed. Financial reports are due within 30 days of the end of the reporting period (i.e., by January 30, April 30, July 30, and October 30).

The Grantee(s) shall use Standard Form (SF) 269A, Financial Status Report, to report the status of the funds, at the project level, during the grant period. A final SF269A shall be submitted no later than 90 days following completion of the grant period.

If the Grantee(s) uses the U.S. Department of Health and Human Services Payment Management System (HHS PMS), it must also send USDOL copies of the PSC 272 that it submits to HHS, on the same schedule. Otherwise, the Grantee(s) shall submit Standard Form (SF) 272, Federal Cash Transactions Report, on the same schedule as the SF269A.

Technical Program: After signing the agreement, the Grantee(s) shall submit technical progress reports to USDOL/OSHA Regional Offices at the end of each fiscal quarter. Technical progress reports provide both quantitative and qualitative information and a narrative assessment of performance for the preceding three-month period. OSHA Form 171 shall be used for reporting training numbers and a narrative report shall be provided that details grant activities conducted during the quarter, information on how the project is progressing in achieving its stated objectives, and notes any problems or delays along with corrective actions proposed. The first reporting period shall end on the last day of the fiscal quarter (December 31, March 31, June 30, or September 30) during which the Grant was signed. Quarterly progress reports are due within 30 days of the end of the report period (i.e., by January 30, April 30, July 30, and October 30.) Between reporting dates, the Grantees(s) shall also immediately inform USDOL/OSHA of significant developments and/or problems affecting the organization's ability to accomplish work.

VII. Agency Contacts

Any questions regarding this SGA should be directed to Cindy Bencheck, e-mail address: Bencheck.Cindy@dol.gov, tel: 847-297-4810 (note that this is not a toll-free number), or Ernest Thompson, Thompson.Ernest@dol.gov, tel 847-297-4810. To obtain further information on the Susan Harwood Training Grant Program of the U.S. Department of Labor, visit the OSHA Web site of the Occupational Safety and Health Administration at http://www.osha.gov.

Signed in Washington, DC, this 12th day of May in the year 2004.
John L. Henshaw,
Assistant Secretary of Labor.

Project Document Format

SF 424, Application for Federal Assistance form.

Your organization is required to have a Data Universal Number System (DUNS) number (received from Dun and Bradstreet) to complete this form. Information about “Obtaining a DUNS Number—A Guide for Federal Grant and Cooperative Agreement Applicants” is available at http://www.whitehouse.gov/omb/grants/duns_num_guide.pdf.

Survey on Ensuring Equal Opportunity for Applicants form.

Program Summary (not to exceed two pages).

Budget Information, SF 424A form.

Detailed Project Budget Backup.

If applicable: Provide a copy of approved indirect cost rate agreement, and statement of program income.

Technical Proposal, program narrative, not to exceed 30 single-sided pages, double-spaced, 12-point font, containing:

Problem Statement/Need for Funds; Administrative and Program Capability; Workplan.

Assurances (SF 424B).

Certifications form (OSHA 189).

Supplemental Certification Regarding Lobbying Activities.

Organizational Chart.

Evidence of Nonprofit status, (letter from the IRS) if applicable.

Accounting System Certification, if applicable.

Organizations that receive less than $1 million annually in Federal grants must attach a certification signed by your certifying official stating that your organization has a functioning accounting system that meets the criteria below. Your organization may also designate a qualified entity (include the name and address in the documentation) to maintain a functioning accounting system that meets the criteria below. The certification should attest that your organization's accounting system provides for the following:

1. Accurate, current and complete disclosure of the financial results of each federally sponsored project.

2. Records that identify adequately the source and application of funds for federally sponsored activities.

3. Effective control over and accountability for all funds, property and other assets.

4. Comparison of outlays with budget amounts.

5. Written procedures to minimize the time elapsing between the transfer of funds.

6. Written procedures for determining the reasonableness, allocability and allowability of costs.

7. Accounting records, including cost accounting records, that are supported by source documentation.

Any attachments such as:

Summaries of other relevant organizational experience; information on prior government grants; resumes of key personnel or position descriptions; signed letters of commitment to the project.

Attachments (Forms)

SF-424, Application for Federal Assistance.

Survey on Ensuring Equal Opportunity for Applicants form.

SF-424A, Budget Information form.

SF 424B, Assurances.

OSHA 189 form, Certification.

Supplemental Certification Regarding Lobbying Activities.

The forms are also available at: http://www.osha.gov/fso/ote/training/sharwood/sharwood.html.

[FR Doc. 04-11128 Filed 5-17-04; 8:45 am]

BILLING CODE 4510-26-C